DEPARTMENT OF HEALTH AND HUMAN SERVICES

Centers for Disease Control and Prevention

[30Day-09-0278]

Agency Forms Undergoing Paperwork Reduction Act Review

The Centers for Disease Control and Prevention (CDC) publishes a list of information collection requests under review by the Office of Management and Budget (OMB) in compliance with the requirement of Section 3506(c)(2)(A) of the Paperwork Reduction Act of 1995. To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Hospital Ambulatory Medical Care Survey [OMB No. 0920-0278]—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on “utilization of health care” in the United States. The National Hospital Ambulatory Medical Care Survey (NHAMCS) has been conducted annually since 1992. This revision seeks approval to collect data for an additional three years and to expand the survey to include free-standing ambulatory surgical centers. The purpose of NHAMCS is to meet the needs and demands for statistical information about the provision of ambulatory medical care services in the United States. Ambulatory services are rendered in a wide variety of settings, including physicians' offices and hospital outpatient and emergency departments.

The target universe of NHAMCS is in-person visits made to emergency departments (EDs) and outpatient departments (OPDs) of non-Federal, short-stay hospitals (hospitals with an average length of stay of fewer than 30 days) or those whose specialty is general (medical or surgical) or children's general. In 2009, NHAMCS was expanded to include visits to hospital-based ambulatory surgery centers (ASCs). NCHS seeks OMB approval to expand NHAMCS to include free-standing ASCs in 2010. The objective of this new collection will be to collect data about free-standing ambulatory surgery centers, the patients they serve, and the services they deliver. The intent is for NHAMCS to become the principal source of data on ASC services in the United States. The data to be collected include patient characteristics, diagnoses, surgical and nonsurgical procedures, provider and type of anesthesia, time in and out of surgery and postoperative care, and discharge disposition.

Users of NHAMCS data include, but are not limited to, congressional offices, Federal agencies, State and local governments, schools of public health, colleges and universities, private industry, nonprofit foundations, professional associations, clinicians, researchers, administrators, and health planners. There are no costs to the respondents other than their time. The total estimated annualized burden hours are 10,832.

Estimated Annualized Burden Table
Type of respondent | Form name | No. of respondents | No. of responses per respondent | Average burden per response (in hours)
Hospital Chief Executive Officer | Hospital Induction (NHAMCS-101) | 482 | 1 | 1
Ancillary Service Executive | Freestanding ASC Induction (NHAMCS-101FS) | 200 | 1 | 1.5
Ancillary Service Executive | Ambulatory Unit Induction (NHAMCS-101U) | 1,779 | 1 | 1
Physician/Registered Nurse/Medical Record Clerk | ED Patient Record form NHAMCS-100 (ED) | 225 | 100 | 7/60
Physician/Registered Nurse/Medical Record Clerk | OPD Patient Record form NHAMCS-100 (OPD) | 128 | 200 | 6/60
Physician/Registered Nurse/Medical Record Clerk | ASC Patient Record Form NHAMCS-100 (ASC) | 208 | 100 | 6/60
Medical Record Clerk | Pulling and re-filing Patient Records (ED, OPD, and ASC) | 425 | 133 | 1/60
Physician/Physician Assistant/Nurse Practitioner/Nurse Midwife | Cervical Cancer Screening Supplement (CCSS) (NHAMCS-906) | 255 | 1 | 15/60

Dated: June 15, 2009.
Maryam I. Daneshvar,
Acting Reports Clearance Officer, Office of the Chief Science Officer, Centers for Disease Control and Prevention.

[FR Doc. E9-14553 Filed 6-19-09; 8:45 am]

BILLING CODE 4163-18-P